OFFICE OF THE UNITED STATES TRADE REPRESENTATIVE

[Docket No. USTR-2017-0024]

2018 Special 301 Review: Identification of Countries Under Section 182 of the Trade Act of 194; Request for Public Comment and Notice of a Public Hearing; Correction

AGENCY: Office of the United States Trade Representative.

ACTION: Request for comments and notice of public hearing; Correction.

SUMMARY: The Office of the United States Trade Representative (USTR) published a document in the Federal Register on December 27, 2017 (82 FR 61363), concerning a request for comments and notices of intent to appear at a public hearing on Section 182 of the Trade Act of 1974, commonly referred to as the “Special 301” provisions. The dates specified in the notice have changed. Additional information on the hearing is also provided.

FOR FURTHER INFORMATION CONTACT: Sung Chang, Director for Innovation and Intellectual Property, Office of the United States Trade Representative, at special301@ustr.eop.gov. You can find information about the Special 301 Review at www.ustr.gov.

Corrections

“Dates” Caption

In the Federal Register on December 27, 2017 (82 FR 61363), correct the “Dates” caption to read as follows:

DATES: March 8, 2018: The Special 301 Subcommittee will hold a public hearing at the Office of the United State Trade Representative, 1724 F Street NW, Rooms 1&2, Washington DC. If necessary, the hearing may continue on the next business day. Please consult the USTR website for confirmation of the date and location and the schedule of witnesses.

March 14, 2018 at midnight EST: Deadline for submission of post-hearing written comments from persons who testified at the public hearing.

About April 30, 2018: USTR will publish the 2018 Special 301 Report within 30 days of the publication of the National Trade Estimate (NTE) Report.

“Background” Caption

In the Federal Register on December 27, 2017 (82 FR 61363), correct the “Background” caption to read as follows:

I. Background

Section 182 of the Trade Act of 1974 (Trade Act) (19 U.S.C. 2242), commonly known as the “Special 301” provisions, requires the Trade Representative to identify countries that deny adequate and effective IPR protections or fair and equitable market access to U.S. persons who rely on intellectual property protection. The Trade Act requires the Trade Representative to determine which, if any, of these countries to identify as Priority Foreign Countries. Acts, policies or practices that are the basis of a country's identification as a Priority Foreign Country can be subject to the procedures set out in sections 301-305 of the Trade Act (19 U.S.C. 2411-2415).

In addition, USTR has created a “Priority Watch List” and “Watch List” to assist the Administration in pursuing the goals of the Special 301 provisions. Placement of a trading partner on the Priority Watch List or Watch List indicates that particular problems exist in that country with respect to IPR protection, enforcement or market access for persons that rely on intellectual property protection. Trading partners placed on the Priority Watch List are the focus of increased bilateral attention concerning the problem areas.

USTR chairs the Special 301 Subcommittee (Subcommittee) of the Trade Policy Staff Committee. The Subcommittee reviews information from many sources, and consults with and makes recommendations to the Trade Representative on issues arising under Special 301. Written submissions from the public are a key source of information for the Special 301 review process. In 2018, USTR will conduct a public hearing as part of the review process and will allow hearing participants to provide additional information relevant to the review. At the conclusion of the process, USTR will publish the results of the review in a Special 301 Report.

USTR requests that interested persons identify through the process outlined in this notice those countries whose acts, policies, or practices deny adequate and effective protection for intellectual property rights or deny fair and equitable market access to U.S. persons who rely on intellectual property protection.

Section 182 also requires the Trade Representative to identify any act, policy, or practice of Canada that affects cultural industries, was adopted or expanded after December 17, 1992, and is actionable under Article 2106 of the North American Free Trade Agreement (NAFTA). USTR invites the public to submit views relevant to this aspect of the review.

Section 182 requires the Trade Representative to identify all such acts, policies, or practices within 30 days of the publication of the NTE Report. In accordance with this statutory requirement, USTR will publish the annual Special 301 Report about April 30, 2018.

“Public Comments” Caption

In the Federal Register on December 27, 2017 (82 FR 61363), correct the “Public Comments” caption to read as follows:

II. Public Comments

To facilitate the review, written comments should be as detailed as possible and provide all necessary information to identify and assess the effect of the acts, policies, and practices. USTR invites written comments that provide specific references to laws, regulations, policy statements, including innovation policies, executive, presidential, or other orders, and administrative, court, or other determinations that should factor in the review. USTR also requests that, where relevant, submissions mention particular regions, provinces, states, or other subdivisions of a country in which an act, policy, or practice is believed to warrant special attention. Finally, submissions proposing countries for review should include data, loss estimates, and other information regarding the economic impact on the United States, U.S. industry, and the U.S. workforce caused by the denial of adequate and effective intellectual property protection. Comments that include quantitative loss claims should include the methodology used to calculate the estimated losses.

“Public Hearing” Caption

In the Federal Register on December 27, 2017 (82 FR 61363), correct the “Public Hearing” caption to read as follows:

III. Public Hearing

The Special 301 Subcommittee will convene a public hearing on March 8, 2018, at the Office of the United States Trade Representative, 1724 F Street NW, Rooms 1 & 2, Washington DC, at which interested persons, including representatives of foreign governments, may appear to provide oral testimony. If necessary, the hearing may continue on the next business day. Because the hearing will take place in Federal facilities, attendees must show photo identification and will be screened for security purposes. Please consult www.ustr.gov to confirm the date and location of the hearing and to obtain copies of the hearing schedule. USTR also will post the transcript and recording of the hearing on the USTR website as soon after the hearing as possible. Witnesses must deliver prepared oral testimony, which is limited to five minutes, before the Special 301 Subcommittee in person and in English. Subcommittee member agencies may ask questions following the prepared statement.

Notices of intent to testify and hearing statements from the public were due on February 8, 2017, and are due from foreign governments on February 22, 2018. The submissions must be in English and should include: (1) The name, address, telephone number, fax number, email address, and firm or affiliation of the individual wishing to testify, and (2) a hearing statement that is relevant to the Special 301 review.

Elizabeth L. Kendall,
Assistant U.S. Trade Representative for Innovation and Intellectual Property (Acting), Office of the United States Trade Representative.

[FR Doc. 2018-03562 Filed 2-21-18; 8:45 am]

BILLING CODE 3290-F8-P